DEPARTMENT OF LABOR

Office of the Secretary

Department of Labor's Fleet Alternative Fuel Vehicle Acquisition

AGENCY: Office of the Secretary, Labor.

ACTION: Notice of availability of the Department of Labor's annual report on its alternative fuel vehicle acquisitions for fiscal year 2018.

SUMMARY: In compliance with the Energy Policy Act of 1992, and subsequent amendments, this notice announces the availability of fiscal year 2018 report that summarizes the U.S. Department of Labor's (DOL) compliance with the annual alternative fuel vehicle acquisition requirement for its vehicle fleet. The website also contains the Department's annual reports for fiscal years 1999-2017. Additionally, the reports include data relative to the agency's effort in reducing petroleum consumption. The report issued next year in 2020 shall be DOL's final report submitted under the Energy Policy Act.

ADDRESSES: U.S. Department of Labor, Office of the Assistant Secretary for Administration and Management, Business Operations Center, 200 Constitution Avenue NW, Room S1520, Washington, DC 20210.

FOR FURTHER INFORMATION CONTACT: Susan Gilbert-Miller, Sustainability and Fleet Manager, at (202) 693-6662 or email Gilbert.Susan.J@dol.gov.

SUPPLEMENTARY INFORMATION: The Energy Policy Act of 1992 (42 U.S.C. 13211-13219), as amended by the Energy Conservation and Reauthorization Act of 1998 (Pub. L. 105-388, section 310(b)(3), and the Energy Policy Act of 2005 (Pub. L. 109-58, section 705), were intended to decrease the country's dependence on petroleum for transportation purposes. The Energy Policy Act of 1992 requires Federal fleets to acquire 75 percent of their new covered vehicle acquisitions as alternative fuel vehicles. Pursuant to 42 U.S.C. 13218 of the Energy Policy Act, DOL and other covered agencies are required annually to submit to Congress reports on their Energy Policy Act alternative fuel vehicle acquisition requirements. These reports must also be placed on an available website and their availability, including the website address, must be published in the Federal Register. The 2019 penultimate report is required to include an announcement that the report for the next year shall be the final report. DOL annual reports for fiscal years 1999 through 2018 may be accessed at the DOL Fleet Information and Regulations website at https://www.dol.gov/oasam/programs/boc/EPAct.htm.

Dated: February 15, 2019.
Bryan Slater,
Assistant Secretary for Administration and Management.

[FR Doc. 2019-04056 Filed 3-5-19; 8:45 am]

BILLING CODE 4510-04-P